DEPARTMENT OF HOMELAND SECURITY

Coast Guard

[Docket No. USCG-2015-0672]

Commercial Fishing Safety Advisory Committee; Vacancies

AGENCY: Coast Guard, Department of Homeland Security.

ACTION: Request for applications.

SUMMARY: The Coast Guard seeks applications for membership on the Commercial Fishing Safety Advisory Committee. The Commercial Fishing Safety Advisory Committee provides advice and makes recommendations to the Coast Guard and the Department of Homeland Security on various matters relating to the safe operation of commercial fishing industry vessels.

DATES: Completed applications should reach the Coast Guard on or before November 17, 2015.

ADDRESSES: Applicants should send a cover letter expressing interest in an appointment to the Commercial Fishing Safety Advisory Committee that identifies which membership category the applicant is applying under, along with a resume detailing the applicant's experience via one of the following methods:

• By mail: Commandant (CG-CVC), Attn: Fishing Vessel Safety, U.S. Coast Guard Stop 7501, 2703 Martin Luther King Jr Ave. SE., Washington, DC 20593-7501.

• By fax: 202-372-8377.

• By email: jack.a.kemerer@uscg.mil.

FOR FURTHER INFORMATION CONTACT: Mr. Jack Kemerer, Alternate Designated Federal Officer, telephone at 202-372-1249, fax at 202-372-8377, or email at jack.a.kemerer@uscg.mil.

SUPPLEMENTARY INFORMATION: The Commercial Fishing Safety Advisory Committee is a federal advisory committee under the Federal Advisory Committee Act, title 5 United States Code Appendix. The Coast Guard chartered the Commercial Fishing Safety Advisory Committee to provide advice on issues related to the safety of commercial fishing industry vessels regulated under chapter 45 of title 46, U.S.C., which includes uninspected fish catching vessels, fish processing vessels, and fish tender vessels. (See 46 U.S.C. 4508.)

The Commercial Fishing Safety Advisory Committee meets at least once a year. It may also meet for other extraordinary purposes. Its subcommittees or working groups may communicate throughout the year to prepare for meetings or develop proposals for the committee as a whole to address specific tasks.

Each member serves for a term of three years. An individual may be appointed to a term as a member more than once, but not more than two terms consecutively. All members serve at their own expense and receive no salary from the Federal Government, although travel reimbursement and per diem may be provided for called meetings.

The Coast Guard will consider applications for six (06) positions that expire or become vacant in May 2016 in the following categories:

(a) Commercial Fishing Industry representatives (four positions);

(b) General Public, (one position) particularly a person familiar with issues affecting fishing communities and families of fishermen; and

(c) A Naval Architect and Marine Engineer representative of commercial fishing vessels (one position).

If you are selected as a member from the general public, you will be appointed and serve as a Special Government Employee as defined in section 202(a) of title 18, United States Code. As a candidate for appointment as Special Government Employee, applicants are required to complete a Confidential Financial Disclosure Report (OGE Form 450). Coast Guard may not release the reports or the information in them to the public except under an order issued by a Federal court or as otherwise provided under the Privacy Act (5 U.S.C. 552a). Applicants can obtain this form by going to the Web site of the Office of Government Ethics (www.oge.gov), or by contacting the individual listed in FOR FURTHER INFORMATION. Applications for a member from the general public which are not accompanied by a completed OGE Form 450 will not be considered.

Registered lobbyists are not eligible to serve on federal advisory committees in an individual capacity. See “Revised Guidance on Appointment of Lobbyist to Federal Advisory Committees, Boards and Commission” (79 CFR 47482, August 13, 2014). The position we list for a member from the general public would be someone appointed in their individual capacity and would be designated as a Special Government Employee as defined in 202(a), title 18, U.S.C. Registered lobbyists are lobbyists required to comply with provisions contained in the Lobbying Disclosure Act of 1995 (Pub. L. 104-65, as amended by title II of Pub. L. 110-81).

The Department of Homeland Security does not discriminate in selection of Committee members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the Committee, send your cover letter and resume to Mr. Jack Kemerer, Commercial Fishing Safety Advisory Committee Alternate Designated Federal Officer, via one of the transmittal methods in the ADDRESSES section by the deadline in the DATES section. Indicate the position you wish to fill and specify your area of expertise, knowledge, and experience that qualify you for that position on the Commercial Fishing Safety Advisory Committee.

To visit our online docket, go to http://www.regulations.gov, enter the docket number for this notice (USCG-2015-0672) in the Search box, and click “Search”. Please do not post your resume or OGE Form 450 on this site.

Dated: September 11, 2015.
V.B. Gifford, Jr.,
Captain, U.S. Coast Guard, Director of Inspections and Compliance.

[FR Doc. 2015-23488 Filed 9-17-15; 8:45 am]

BILLING CODE 9110-04-P